DEPARTMENT OF ENERGY

Federal Energy Regulatory Commission

[Docket No. IS21-138-000]

SFPP, L.P.; Notice Shortening Comment Period Regarding Offer of Settlement

Take notice that on December 7, 2020, SFPP, L.P. (SFPP), HollyFrontier Refining & Marketing LLC, Navajo Refining Company, LLC, Valero Marketing and Supply Company, Tesoro Refining & Marketing Company LLC, Western Refining Pipeline Co., Western Refining Company, L.P., Chevron Products Company, Phillips 66 Company, BP West Coast Products LLC, ExxonMobil Oil Corporation, American Airlines, Inc., Southwest Airlines Co., and US Airways, Inc., (collectively, Parties) filed a joint Offer of Settlement (Settlement). The Settlement seeks to resolve all issues pending before the Commission with regard to SFPP's East Line interstate rates in Docket Nos. IS09-437, et al. The Parties request that the Commission shorten the comment period so that initial comments are due on December 14, 2020, and reply comments are due on December 17, 2020.

Notice is hereby given that initial comments on the Settlement are due on December 14, 2020, and reply comments are due on December 17, 2020.

Dated: December 9, 2020.
Kimberly D. Bose,
Secretary.

[FR Doc. 2020-27532 Filed 12-14-20; 8:45 am]

BILLING CODE 6717-01-P